DEPARTMENT OF TRANSPORTATION

Surface Transportation Board

[STB Finance Docket No. 33919]

IRW Railway, LLC—Acquisition Exemption—West Tennessee Railroad Line

IRW Railway, LLC (IRW), a noncarrier, has filed a verified notice of exemption under 49 CFR 1150.31 to acquire the West Tennessee Railroad line (WTR line) from the Gibson County Railroad Authority (Authority). The WTR line extends from milepost 394.5, north of Carol, TN, to milepost 431.31, at Kenton, TN, a distance of 36.8 miles.¹

¹ The WTR line was acquired by Authority pursuant to the Board's decision in Gibson County Railroad Authority and West Tennessee Railroad Corporation—Exemption—From 49 U.S.C. Subtitle IV, Finance Docket No. 30502 (ICC served 8/27/84). West Tennessee Railroad Corp. (WTRC) currently provides rail service over the line under an operating agreement with Authority. The rail operation obligations of Authority will be transferred to IRW and WTRC will continue to operate the line.

According to the verified notice of exemption, the parties intended to purchase title to the line after approval of this exemption. The earliest the exemption could have been consummated was August 30, 2000, the effective date of the exemption (7 days after the exemption was filed).

This transaction is related to STB Finance Docket No. 33918, Henry G. Hohorst, Bruce Hohorst, Joan D. Hohorst, and Anthony M. Linn—Continuance in Control Exemption—IRW Railway, LLC, wherein Henry G. Hohorst, Bruce Hohorst, Joan D. Hohorst, and Anthony M. Linn have filed a verified notice of exemption to continue in control of IRW after it acquires ownership of the title to the lands and track of the WTR line.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33919, must be filed with the Surface Transportation Board, Office of the Secretary, Case Control Unit, 1925 K Street, N.W., Washington, DC 20423-0001. In addition, a copy of each pleading must be served on John F. McHugh, McHugh & Barnes, P.C., 20 Exchange Place, New York, NY 10005.

Board decisions and notices are available on our website at “WWW.STB.DOT.GOV.”

Decided: September 8, 2000.
By the Board, David M. Konschnik, Director, Office of Proceedings.
Vernon A. Williams,
Secretary.

[FR Doc. 00-23632 Filed 9-15-00; 8:45 am]

BILLING CODE 4915-00-P